DEPARTMENT OF COMMERCE

Foreign-Trade Zones Board

[B-40-2014]

Subzone 38G—Anderson, South Carolina; Application for Production Authority Kravet Inc.; Comment Period on Submission of New Evidence

On May 20, 2014, an application was submitted by the South Carolina State Ports Authority, grantee of FTZ 38, requesting production authority within Subzone 38G on behalf of Kravet Inc. (Kravet), in Anderson, South Carolina. The proposed activity involves the cutting and tagging of textiles, paper wall coverings and decorative trimmings to be used as commercial samples (79 FR 30078-30079, 5-27-2014).

On March 13, 2015, Kravet made a submission to the FTZ Board that included new evidence in response to the examiner's preliminary recommendation not to approve the application. Public comment is invited on Kravet's new evidence through April 24, 2015. Rebuttal comments may be submitted during the subsequent 15-day period, until May 11, 2015. Submissions shall be addressed to the FTZ Board's Executive Secretary at: Foreign-Trade Zones Board, U.S. Department of Commerce, Room 21013, 1401 Constitution Ave. NW., Washington, DC 20230.

A copy of Kravet's March 13, 2015, submission will be available for public inspection at the address above, and in the “Reading Room” section of the FTZ Board's Web site, which is accessible via www.trade.gov/ftz.

FOR FURTHER INFORMATION CONTACT: Elizabeth Whiteman at Elizabeth.Whiteman@trade.gov or (202) 482-0473.

Dated: March 18, 2015.
Andrew McGilvray,
Executive Secretary.

[FR Doc. 2015-06871 Filed 3-24-15; 8:45 am]

BILLING CODE 3510-DS-P